ENVIRONMENTAL PROTECTION AGENCY

[FRL-8199-1]

Membership on the Coastal Elevations and Sea Level Rise Advisory Committee

AGENCY: Environmental Protection Agency (EPA).

ACTION: Request for nominations to the Coastal Elevations and Sea Level Rise Advisory Committee (CESLAC).

SUMMARY: The U.S. Environmental Protection Agency is inviting nominations for membership on the Coastal Elevations and Sea Level Rise Advisory Committee (CESLAC). The purpose of the Committee is to provide advice on the conduct of a study titled Coastal Elevations and Sensitivity to Sea Level Rise to be conducted as part of the U.S. Climate Change Science Program (CCSP). The draft prospectus for the study titled Coastal Elevations and Sensitivity to Sea Level Rise is on the CCSP Web site at http://www.climatescience.gov/Library/sap/sap4-1/sap4-1prospectus-draft.htm Committee membership will total approximately fifteen persons and will include a balanced representation of individuals from the Federal Government, State and/or local governments, the scientific community, non-governmental organizations and the private sector, with expertise, experience, knowledge and interests essential to, or affected by, the successful completion of the study.

Nominations should be received within twenty-one days of the date of this Federal Register notice. Any interested person or organization may submit a nomination. Nominations must include a complete resume of the nominee's background, experience and expertise, and any other information considered relevant. Additional avenues and resources will be utilized by EPA in the solicitation of nominees.

ADDRESSES: Submit nominations to: Jack Fitzgerald (6207J), Climate Change Division, Office of Atmospheric Programs, Environmental Protection Agency, 1200 Pennsylvania Avenue, NW., Washington, DC 20460; e-mail address: Fitzgerald.jack@epa.gov, fax: (202) 343-2337.

FOR FURTHER INFORMATION CONTACT: Jack Fitzgerald (6207J), Climate Change Division, Office of Atmospheric Programs, Environmental Protection Agency, 1200 Pennsylvania Avenue, NW., Washington, DC 20460; telephone number: (202) 343-9336; e-mail address: Fitzgerald.jack@epa.gov.

SUPPLEMENTARY INFORMATION: A copy of the Committee Charter is available at http://www.fido.gov/facadatabase/. The purpose of the Committee is to provide advice on the conduct of a study titled Coastal Elevations and Sensitivity to Sea Level Rise to be conducted as part of the U.S. Climate Change Science Program (CCSP). This study will give particular attention to the coastal area of the U.S. between the states of New York and North Carolina. Within the context of the basic study plan established in the prospectus, CESLAC will advise on the specific issues to be addressed, appropriate technical approaches, the nature of information relevant to decision makers, the content of the final assessment report, compliance with the Information Quality Act, and other matters important to the successful achievement of the objectives of the study. Individuals and organizations interested in submitting nominations for membership should familiarize themselves with the draft prospectus for this study, which is available at http://www.climatescience.gov/Library/sap/sap4-1/sap4-1prospectus-draft.htm. CESLAC is expected to meet three times before the end of 2007—twice in the Washington, DC, area and once in a coastal or near-coastal community.

Nominations should be sent preferably by e-mail. If sent by either fax or regular mail, sender is encouraged to phone (202) 343-9336 in advance.

Dated: July 7, 2006.
William L. Wehrum,
Assistant Administrator, Office of Air and Radiation.

[FR Doc. E6-11470 Filed 7-18-06; 8:45 am]

BILLING CODE 6560-50-P